DEPARTMENT OF THE INTERIOR

Bureau of Land Management

[BLM_NV_FRN_4500183156]

Notice of Availability of the Record of Decision for the Robertson Mine Project, Lander County, Nevada

AGENCY: Bureau of Land Management, Interior.

ACTION: Notice of availability.

SUMMARY: The Bureau of Land Management (BLM) announces the availability of the Record of Decision (ROD) for the Final Environmental Impact Statement (EIS) for the Robertson Mine Project located in Lander County, Nevada. The ROD constitutes the decision of the BLM.

DATES: The District Manager signed the ROD on November 15, 2024.

ADDRESSES: The ROD is available online at https://eplanning.blm.gov/eplanning-ui/project/2023088/510.

FOR FURTHER INFORMATION CONTACT: Jeff Kirkwood, Project Manager, telephone: (775) 635-4164; address: 50 Bastian Road, Battle Mountain, Nevada 89820; email: BLM_NV_BMDO_Robertson@blm.gov. Individuals in the United States who are deaf, deafblind, hard of hearing, or have a speech disability may dial 711 (TTY, TDD, or TeleBraille) to access telecommunications relay services for contacting Mr. Kirkwood. Individuals outside the United States should use the relay services offered within their country to make international calls to the point-of-contact in the United States.

SUPPLEMENTARY INFORMATION: The ROD incorporates BLM's selection of the Partial Backfill Alternative (Preferred Alternative/Selected Alternative). The BLM's decision is based on the analyses contained in the Final EIS, and after careful consideration of input received from the public and cooperating agencies.

The BLM will authorize the plan of operations (Plan) for the Robertson Mine Project in the ROD, in accordance with the BLM Use and Occupancy and Surface Management Regulations at 43 CFR subparts 3715 and 3809. The BLM has determined that implementation of this ROD, with the identified mitigation measures and the Applicant-committed Environmental Protection Measures (ACEPMs), will not cause unnecessary or undue degradation of the public lands and is consistent with applicable legal requirements.

In accordance with 40 CFR 1505.2(c), the mitigation measures and ACEPMs required as part of the Plan represent practicable means to avoid or minimize environmental harm resulting from implementing the BLM's Selected Alternative. All mitigation measures within the BLM's authority will be implemented and enforced.

The operator is responsible for obtaining any necessary local, state, and Federal permits, licenses, or reviews. Other agencies are responsible for issuing and enforcing their own decisions and applicable authorizations for the Project.

(Authority: 40 CFR 1506.6)

Jon D. Sherve,
Battle Mountain District Manager.

[FR Doc. 2024-27305 Filed 11-20-24; 8:45 am]

BILLING CODE 4331-21-P